DEPARTMENT OF AGRICULTURE

Forest Service

Revised Land and Resource Management Plan for the Ouachita National Forest in Arkansas and Oklahoma

AGENCY: Forest Service, USDA.

ACTION: Notice of Intent to prepare Environmental Impact Statement.

SUMMARY: The purpose of this notice is to inform the public that (pursuant to 16 U.S.C. 1604(f)(5) and 36 CFR 219.10(g)) the Regional Forester for the Southern Region of the USDA Forest Service intends to prepare an Environmental Impact Statement (EIS) to accompany a revision of the Land and Resource Management Plan (Forest Plan) for the Ouachita National Forest. The existing Forest Plan was approved on April 1, 1986. Since then, 37 amendments have been completed, including a significant amendment that resulted in publication of the 1990 Amended Land and Resource Management Plan. We now invite comments and suggestions from American Indian tribes, Federal agencies, state and local governments, individuals and organizations on the scope of the analysis to be included in the draft EIS (DEIS) (40 CFR 1501.7).

DATES: Comments on this Notice of Intent (NOI) and, specifically, on the scope of the analysis to be included in the EIS, should be received in writing by August 2, 2002. The agency expects to file the DEIS with the Environmental Protection Agency (EPA) and make it available for public comment in 2004. The Agency expects to file the final EIS (FEIS) in September of 2005.

ADDRESSES: Send written comments to Forest Plan, Ouachita National Forest, P.O. Box 1270, Hot Springs, AR 71902. Electronic mail should include “FP Revision” in the subject line and be sent to: ouachita plan@fs.fed.us.

FOR FURTHER INFORMATION CONTACT: Ouachita National Forest: Planning Team Leader Bill Pell (phone 501-321-5320; TDD 501-321-5307). Electronic mail should include “FP Revision” in the subject line and be sent to: ouachita plan@fs.fed.us. Information about Forest Plan revision and future opportunities to participate will be posted at the following website: http://www.fs.fed.us/oonf/design planning.html. The Regional Forester for the Southern Region, located at 1720 Peachtree Road, NW, Atlanta, Georgia 30309, is the Responsible Official.

Affected Counties: This NOI affects the following counties: Ashley, Garland, Hot Spring, Howard, Logan, Montgomery, Perry, Pike, Polk, Saline, Scott, Sebastian, and Yell, Arkansas; and LeFlore and McCurtain, Oklahoma.

SUPPLEMENTARY INFORMATION:

A. Background Information

1. The Role of Forest Plans

National Forest System resource allocation and management decisions are made in two stages. The first stage is the Forest Plan, which involves the establishment of management direction by allocating lands and resources within the plan area to various uses or conditions through management areas and management prescriptions. The second stage is plan implementation through approval of project decisions. Forest Plans do not compel the agency to undertake any site-specific projects; rather, they establish overall goals and objectives (or desired resource conditions) that the individual National Forest will strive to meet. Forest Plans also establish limitations on what actions may be authorized and what conditions must be met as part of project-level decision-making.

The primary decisions made in a Forest Plan include: (1) Establishment of forest-wide multiple-use goals and objectives (36 CFR 219.11(b)); (2) establishment of forest-wide management requirements (36 CFR 219.13 to 219.27); (3) establishment of multiple-use prescriptions and associated standards for each management area (36 CFR 219.11(c)); (4) determination of land that is suitable for the production of timber (16 U.S.C. 1604(k) and 36 CFR 219.14); (5) establishment of the allowable sale quantity for timber within a time frame specified in the plan (36 CFR 219.16); (6) establishment of monitoring and evaluation requirements (36 CFR 219.11(d)); (7) recommendations concerning roadless areas that Congress could designate as wilderness (36 CFR 219.17); and (8) where applicable, designation of those lands administratively available for oil and gas leasing (36 CFR 228.102 (d) and (e)). The authorization of site-specific activities within a plan area occurs through project decision-making, the second stage of forest planning. Project decision-making must comply with NEPA procedures and must include a determination that the project is consistent with the Forest Plan.

(Note: The above citations are from the 1982 36 CFR 219 planning regulations. See also section G.)

2. The Beginning of the Forest Plan Revision Effort for the Oauchital National Forest

For this Forest Plan revision, an effort was made to first define the current situation and estimate an “initial need for change.” A key part of defining the current situation was the Ozark-Ouachita Highlands Assessment, a multi-agency effort in which Ouachita National Forest employees actively participated. On October 16, 1996, a Notice was published in the Federal Register (Vol. 61. No. 201) that identified the relationships between the Ozark-Ouachita Highlands Assessment and Forest Plan revisions for the National Forest in Arkansas, Missouri, and Oklahoma. In addition to reviewing the results of this broad-scale assessment, which were made widely available in early 2000, and the draft conclusions of a more recent assessment (described below), the “initial need for change” was evaluated in light of the results of monitoring and relevant research, public comments received from 1990 through early 2002, and the experience of employees responsible for implementing the Forest Plan. These evaluations are the basis for the preliminary issues and proposed action identified in this notice. Additional issues or topics will be developed as needed to respond to public comments received in response to this NOI and subsequent scoping efforts.

3. The Ozark-Ouachita Highlands Assessment and the Southern Forest Resource Assessment

The USDA Forest Service and many other agencies participated in the preparation of the Ozark-Ouachita Highlands Assessment, which culminated in a final summary report and four technical reports that were made available to the public in early 2000 (available now at the Forest Plan address provided near the beginning of this document). This Assessment included National Forest System lands and private lands within the highlands of Arkansas, Missouri, and Oklahoma.

The Assessment facilitated ecologically based approaches to public lands management in the Ozark-Ouachita Highlands by collecting and analyzing broadscale biological, physical, social and economic data. The Assessment supports the revision of the Forest Plans by describing how the lands, resources, people and management of the National Forest interrelated within the larger context of the Ozark-Ouachita Highlands area. This Assessment, however, is not a “decision document,” and it did not involve the National Environmental Policy Act (NEPA) process.

The Southern Forest Resource Assessment was initiated in May 1999 to examine the status, trends, and potential future of southern forests. The USDA Forest Service led the effort in cooperation with the U.S. Fish and Wildlife Service, EPA, Tennessee Valley Authority, and southern States represented by their forestry and fish and wildlife agencies. This Assessment addresses the sustainability of southern forest in light of increasing urbanization and timber harvests, changing technologies (including chip mills), forest pests, climatic changes, and other factors that influence the region's forests. In late 2001, draft reports from the Southern Forest Resource Assessment were made available on the following website: http://www.srs.fs.fed.us/sustain/report/index.htm.

4. Relationship of the Forest Plan revision for the Ouachita National Forest to revision efforts for the Mark Twain and Ozark-St. Francis National Forest

Forest plan revision will be conducted simultaneously on these National Forests. We anticipate that a separate EIS and revised Forest Plan will be produced for each administrative unit. The respective Forest Supervisors have agreed to coordinate the revisions to the extent feasible and practical. The respective planning teams will work together to address common issues.

5. The Role of Scoping in Revising the Land and Resource Management Plan

This NOI includes a description of a Proposed Action in terms of preliminary “needs for change” for the revision of the Forest Plan and preliminary issues associated with those needed changes. The Proposed Action entails one or more of the plan decisions identified in the “The Role of Forest Plans.” Scoping to receive public comments on the preliminary issues and proposed action will begin following the publication of this NOI. Comments received during this period will be used to further refine the preliminary issues that should be addressed, the Forest Plan decisions that need to be analyzed (the “proposed action” and “need for change”), and the range of alternatives that will be developed. For more information on how the public can become involved during the scoping period, see Section F of this NOI.

B. Purpose and Need for Action

The purpose for revising the Forest Plan derives from the requirements for land and resource management planning in the National Forest Management Act and its implementing regulations, which are contained in 36 CFR 219. According to 36 CFR 219.10(g), Forest Plans are ordinarily revised on a 10-15 year cycle. The need to revise this Forest Plan is also driven by the changing conditions identified in the Ozark-Ouachita Highlands Assessment, the Southern Forest Resource Assessment, and ongoing monitoring and evaluation results specific to the Ouachita National Forest.

C. Preliminary Issues

Preliminary issues for the Ouachita National Forest Plan revision focus on parts of the current Forest Plan where change may be needed. The preliminary issues were derived from the Ozark-Ouachita Highlands Assessment, the Southern Forest Resource Assessment, internal comments from forest managers, results of monitoring, the mid-plan review and comments received from the public. The Proposed Action in section D describes these issues in more detail.

1. Ecosystem Health and Sustainability

a. Changes may be needed in management direction for maintaining or restoring healthy forest ecosystems in the face of new threats from insect outbreaks and diseases. (36 CFR 219.27)

b. Changes may be needed in Forest Plan direction for maintaining habitats for viable populations of all native plant and animal species. (36 CFR 219.19)

c. Management standards for the use (and/or projected levels) of prescribed burning may need to be modified in light of changing air quality standards.

d. Changes in management standards and desired conditions for the transportation system within the Ouachita National Forest may be needed in order to respond to the findings of a forest scale roads analysis. (36 CFR 212.5)

2. Roadless Areas, Recreation, Motorized Access

a. Remaining roadless areas need to be considered for possible wilderness recommendation(s). (36 CFR 219.17)

b. Changes may be needed to address existing and likely future conflicts among dispersed recreation activities.

c. The mix of developed and dispersed recreation opportunities on the forest may need to be reevaluated.

d. Forest Plan direction concerning off-highway vehicle use may need to be changed in light of increasing demands for and concerns about this recreation activity.

3. Silvicultural Practices

a. Changes may be needed in the standards for implementing different reproduction cutting methods and other silvicultural practices and the predicted levels at which such methods and practices will be implemented on the Ouachita National Forest.

b. There may be a need to re-examine the relationships between silvicultural practices and desired conditions for the National Forest.

4. Relationship of National Forest Management to Local Communities and Economies.

a. Changes may be needed to enable the National Forest to more fully support long-term community development needs in the vicinity of the Ouachita National Forest.

D. Proposed Action

Since 1990, Forest Plan amendments, annual monitoring reports, a five-year review of plan implementation, and working with the public and other agencies have provided the Ouachita National Forest with valuable information about changes that are needed in the existing Forest Plan. This initiates the determination of the need to establish or change management direction as required under the NFMA regulations at 36 CFR 219.12(e)(5). The Proposed Action is that revision of the Forest Plan for the Ouachita National Forest focus primarily on the following “needs for change”.

1. Ecosystem Health and Sustainability

a. Oak Decline and Oak Mortality

Oak decline and oak mortality are occurring on an estimated 30,000 acres of hardwood forests on national forest lands in Montgomery, Polk, Scott and Logan Counties, Arkansas. Although some oak mortality has been observed over a wide variety of sites, significant mortality is primarily occurring in oak-hickory stands at higher elevations on north-facing slopes. These stands are comprised of older trees (approaching 100 years of age), have high basal areas, and exist on relatively poor sites. There are approximately 500,000 acres of hardwood and hardwood-pine forests on the Forest, however, and all are potentially at risk for oak decline; the area affected by excessive oak mortality is expected to increase.

The Forest Plan provides broad goals and management standards to “reduce insect and disease-caused losses” but does not specifically address oak mortality. Although the Forest Plan addresses desired hardwood components of various management areas in detail, specific mention of a desired oak component is found in the management goal statements of only five management areas (9, 11, 15, 16, and 19). Current management direction needs to be reviewed in light of the growing incidence of oak mortality on this National Forest.

b. Threatened, Endangered and Species of Viability Concerns

For the most part, the populations of threatened, endangered, and species of viability concern that occupy portions of the Ouachita National Forest (or nearby downstream reaches) appear to be stable, fluctuating normally, or increasing. However, the viability of some of these species or groups of species (e.g., amphibians, birds) may need to be reconsidered in light of research or monitoring conducted since 1990. Another concern is that the Ouachita National Forest continues to fall short of providing the amounts of early seral habitat that are called for by the current Forest Plan. Over the past decade, the shortfall has risen to nearly 80,000 acres. The viability of species dependent on such habitats needs to be reevaluated.

c. Prescribed Burning

EPA will soon establish new National Ambient Air Quality Standards for ozone and particulate matter 2.5 microns and smaller in size. One or more “non-attainment” areas for one or both of these pollutants may be designated near or partially encompassing the Ouachita National Forest. Projections of desired and feasible levels of annual prescribed burning may need to be adjusted based on these new circumstances.

d. Transportation System

New direction for National Forest transportation system planning was issued in January of 2001. In May, an interim directive delayed implementation of the new regulations until 2002. The Ouachita National Forest will start implementing the new direction concerning roads analysis this year, including initiation of a forest-wide roads analysis. Doing so will bring even greater focus on roads maintenance needs, opportunities to obliterate unneeded roads, and public interest in motorized access to this national forest. The decision to revise the forest plan must be informed by a roads analysis (36 CFR 212.5).

2. Roadless Areas, Recreation Needs and Conflicts, Motorized Access

a. Roadless Areas

Six inventoried roadless areas within the Ouachita National Forest were identified in the Forest Service's FEIS, Roadless Area Conservation, dated November 2000. The Forest Plan for the Ouachita National Forest currently prohibits or strictly limits road construction in these six roadless areas, and no timber sales have been planned in recent years in these areas. These six areas and two additional roadless areas in McCurtain Co., Oklahoma, will be evaluated as potential wilderness areas during Forest Plan revision per 36 CFR 219.17. Any other lands meeting the criteria for inventoried roadless areas will also be evaluated.

b. Recreation Opportunities

According to Report 4 of the Ozark-Ouachita Highlands Assessment, “Demand for nearly all categories of recreational activities is expected to increase in the next decade. Researchers project that the increase in the Highlands will be greater than the national average. Recreational activities with the largest projected increases in both percentage of the population and number of people participating include sightseeing, picnicking, visiting historical sites, and visiting beaches or other water sites.” Horseback riding and off-highway vehicle use are also expected to increase. These demands and uses may increase the rate of user conflicts and environmental problems. In addition to the kinds of conflicts and problems associated with dispersed recreation activities, there are major concerns about developed recreation areas on the Ouachita National Forest. Because of their age and heavy use, many of these recreational facilities are deteriorating. Lack of funds to maintain and repair them may point to a need to close some areas and strictly limit designation of new ones.

c. Off-Highway Vehicle Use

Cross-country off-highway vehicle (OHV) travel is presently allowed over large portions of the Ouachita National Forest. Areas of concentrated use where OHV impacts pose persistent problems include Wolf Pen Gap, Little Missouri River watershed, the Lake Ouachita area, Poteau Mountain Wilderness, and some power line rights of way. There is no common understanding (externally or internally) of what constitutes “resource damage” due to OHVs (i.e., what is and isn't acceptable). User conflicts, such as those experienced when some hunters and hikers encounter OHV riders are increasing, as is demand for OHV access. Current Forest Plan direction includes guidelines to “provide for off-road vehicle use” and “designate special areas for ORV use.” More specific guidance many be needed.

3. Silvicultural Practices

When uneven-aged and irregular even-aged management practices were implemented on portions of the Ouachita National Forest in the early 1990s, there was little scientific information concerning the feasibility or environmental consequences of such practices. Now, most forest managers have 10 or more years of experience with these silvicultural methods. Moreover, multi-disciplinary research focused on stand-level silvicultural treatments (alternatives to clearcutting) has been conducted on the Ouachita National Forest since 1991. Post-treatment results will be available during Forest Plan revision and may point to needed changes in the Forest Plan. The mix and projected annual use of silvicultural practices may need to be reexamined.

4. Relationship of National Forest Management to Local Communities and Economies

The National Forest-Dependent Rural Communities Economic Diversification Act of 1990 directs the Forest Service to help national forest-dependent communities organize, plan, and implement actions that diversify local economies and to ensure that USDA-funded community action plans are consistent with national forest land and resource management plans. There may be a need to reexamine the relationships between national forest management direction and local community development (including economic development) needs.

5. Other Needs for Change

In addition to addressing the needs for change described in parts D.1. through D.4., the Proposed Action also includes the following:

a. Reevaluate management area definitions and boundaries.

b. Reevaluate road density standards in management area prescriptions.

c. Replace the current Visual Management System with the national Scenery Management System and consider the need for new visual objectives.

d. Examine and update land ownership adjustment needs across the Forest.

e. Consider any change needed to better address tribal rights and needs.

f. Review current direction for monitoring and evalaution and bring it in line with current needs.

g. Update the research needs identified in the 1990 Amended Plan.

h. Evaluate watershed health and consider changes in standards and guidelines to address priority needs.

i. Clarify standards for identifying lands suitable for timber production (as part of the management direction for certain management areas) and review the designation of lands not suited for timber production (36 CFR 219.14(d)); for the Ouachita National Forest, the required ten-year review of lands not suitable for timber production is being done in this revision.

j. Re-determine the allowable sale quantity (ASQ) for timber.

k. Determine whether changes are needed in definitions and forest plan direction for riparian areas and streamside management zones.

l. Determine whether changes are needed in management direction for existing wild and scenic river corridors.

m. Review forest plan direction concerning old growth to determine whether it is consistent with Southern Region direction.

E. Preliminary Alternatives

The actual alternatives presented in the DEIS will portray a full range of responses to the significant issues. The DEIS will examine the effects of implementing strategies to achieve different desired conditions and will develop possible management objectives and opportunities that would move the forest toward those desired conditions. A preferred alternative will be identified in the DEIS. The range of alternatives presented in the DEIS will include one that continues current management direction and others that will address the range of issues developed in the scoping process.

F. Involving the Public

The objective in this process for public involvement is to create an atmosphere of openness where all members of the public feel free to share information with the Forest Service and its employees on a regular basis. All parts of this process will be structured to maintain openness and trust. The Forest Service is seeking information, comments, and assistance from tribal governments, Federal, State and local agencies, and other individuals and organizations that may be interested in or affected by the proposed action. This input will be utilized in the preparation of the DEIS. The range of alternatives to be considered in the EIS will be based on the identification of significant issues, management concerns, resource management opportunities, and plan decisions. Public participation will be solicited by notifying in person and/or by mail, known interested and affected publics. News releases will be used to give the public general notice, and public scoping meetings will be conducted at several locations. Public participation will be sought throughout the plan revision process and will be important at several points along the way. The first opportunity to comment will be during the scoping process (40 CFR 1501.7). Scoping includes identifying additional potential issues (other than those previously described). The second step is to identify which issues are significant and which have either been covered by prior environmental review or are non-significant for revision. the list of significant issues will be available for public review and comment before the DEIS is prepared. Significant issues are used to develop and explore Forest Plan alternatives. Finally, the potential environmental effects of the proposed action and alternatives (i.e., direct, indirect, and cumulative effects) will be thoroughly analyzed and disclosed in the DEIS, which will be available for public comment for at least 90 days. As part of the first step in scoping, a series of public opportunities have been scheduled to explain the planning process and provide an opportunity for public input. Following are the proposed locations and dates for these meetings: Broken Bow, Oklahoma, June 3, 2002; Poteau, Oklahoma, June 6, 2002; Hot Springs, Arkansas, June 10, 2002; Mena, Arkansas, June 11, 2002.

G. Planning Regulations

The Department of Agriculture published new planning regulations in November 2000. Concerns regarding the ability of the agency to implement these regulations prompted a review, and another revision of these regulations is now being developed. On May 10, 2001, Secretary Veneman signed an interim final rule allowing Forest Plan amendments or revisions initiated before May 9, 2002, to proceed under the new (November 2000) planning rule or under the 1982 planning regulations. The Ouachita National Forest Plan revision will be initiated under the 1982 planning regulations.

H. Release and Review of EIS

The DEIS is expected to be filed with the EPA and be available for public comment by September 2004. At that time, the EPA will publish a notice of availability of the DEIS in the Federal Register, The comment period will be 90 days from the date the EPA publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC. 435 U.S. 519, 553 (1978). Also environmental objections that could be raised at the DEIS stage but that are not raised until after completion of the FEIS may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 90-0day comment period so that substantive comments and objections are made available to the Forest Service at a time when it can meaningfully consider them and respond to them in the FEIS. To assist the Forest Service in identifying and considering issues and concerns on the proposed actions, comments on the DEIS should be as specific as possible. It is also helpful if comments refer to specific pages or chapters of the DEIS. Comments may also address the adequacy of the DEIS or the merits of the alternatives formulated and discussed in the statements. Reviewers may wish to refer to the Council on Environmental Quality Regulations for implementing the procedural provisions of the NEPA at 40 CFR 1503.3 in addressing these points. After the comment period on the DEIS ends, the comments will be analyzed, considered, and responded to by the Forest Service in preparing the FEIS. The FEIS is scheduled to be completed in September 2005. the Responsible Official (the Regional Forester, Southern Region, 1720 Peachtree Road, NW., Atlanta, Georgia 30309) will consider the comments, responses, and environmental consequences discussed in the FEIS together with all applicable laws, regulations, and policies in making a decision regarding revision. The Responsible Official will document the decision and reasons for the decision in a Record of Decision. This decision may be subject to appeal in accordance with 36 CFR 217.

Dated: April 25, 2002.
R. Gary Pierson,
Acting Deputy Regional Forester.

[FR Doc. 02-10779 Filed 4-30-02; 8:45 am]

BILLING CODE 3410-11-M